DEPARTMENT OF HEALTH AND HUMAN SERVICES

Administration for Children and Families

Announcement of the Award of a Single-Source Expansion Supplement Grant to the National Runaway Switchboard

AGENCY: Family and Youth Services Bureau (FYSB), ACYF, ACF, DHHS.

ACTION: Notice of the award of a single-source expansion supplement grant to the National Runaway Switchboard to support the translation of “Let's Talk Curriculum” into Spanish and disseminate it to culturally appropriate prevention resources to expand outreach to Latino youth and their families.

SUMMARY: The Administration for Children and Families (ACF), Administration on Children, Youth and Families (ACYF), Family and Youth Services Bureau (FYSB), Division of Adolescent Development and Support (DADS), announces the award of a single-source expansion supplement grant of $34,000 to the National Runaway Switchboard to support research and the translation of “Let's Talk Curriculum” into Spanish and disseminate it to culturally appropriate prevention resources to expand outreach to Latino youth and their families.

DATES: The award will support activities from September 29, 2015 through September 29, 2016.

FOR FURTHER INFORMATION CONTACT: Christopher Holloway, Central Office Program Manager, Runaway and Homeless Youth Program, Division of Adolescent Development and Support, Family and Youth Services Bureau, 330 C Street SW., Washington, DC 20201; Telephone: 202-205-9560; Email: Christopher.Holloway@acf.hhs.gov.

SUPPLEMENTARY INFORMATION: The National Runaway Safeline, operated by the National Runaway Switchboard, serves as the federally-designated national communication system for homeless and runaway youth. Through hotline and online services, the National Runaway Switchboard provides crisis intervention, referrals to local resources, and education and prevention services to runaway, homeless, and at-risk youth, their families, and communities 24 hours a day, 7 days a week, every day of the year, in a neutral and confidential manner. Beyond its mission, the National Runaway Switchboard is committed to elevate the dialogue about runaway and homeless youth issues to ensure everyone understands the importance of supporting vulnerable youth, the programs that serve them, and the value of disseminating prevention materials to increase skills and competencies among at-risk youth.

The expansion supplement award will allow the National Runaway Switchboard to:

• Conduct research to increase public education on issues impacting at-risk, runaway, and homeless youth and to disseminate data about the need to support youth-serving programs in communities nationwide.

• Translate the “Let's Talk Curriculum” into a Spanish version and disseminate it to culturally appropriate prevention resources to expand outreach to Latino youth and their families.

The National Runaway Switchboard will conduct the research to analyze their data and utilize the research findings to enhance prevention programs, improve technical support, and reach out to diverse media outlets to increase public knowledge on these issues. More important, the research information will assist youth-serving organizations in explaining the need for their services. Often, local stakeholders do not understand the importance of providing services and programs to runaway and homeless youth because they are not aware of the impact of these issues. When a youth runs away, the impact is felt throughout an entire community. By learning about the causes, short-term, and long-term effects of runaway and homeless behaviors, communities can move away from stereotypes and provide the resources and connections needed for vulnerable youth.

The research and Spanish translation services are crucial projects that support the Switchboard's efforts, and FYSB's commitment, to provide resources to runaway and homeless youth, underserved communities, and those who support these vulnerable populations.

Statutory Authority: Section 331 of the Runaway and Homeless Youth Act, as amended by the Reconnecting Homeless Youth Act of 2008, Public Law 110-378, authorizes the award of grants for the National Communication System for Runaway and Homeless Youth (42 U.S.C. 5714-11).

CFDA Number: 93.550.

Christopher Beach,
Senior Grants Policy Specialist, Office of Administration, Division of Grants Policy.

[FR Doc. 2016-01339 Filed 1-22-16; 8:45 am]

BILLING CODE 4184-33-P